DEPARTMENT OF ENERGY

Federal Energy Regulatory Commission

[Project No. 13357-000]

Project 7 Water Authority; Notice of Conduit Exemption Application Accepted for Filing and Soliciting Comment, Motions To Intervene, and Competing Applications

March 31, 2009.

On January 15, 2009, and supplemented on March 24, 2009, Project 7 Water Authority filed an application pursuant to 16 U.S.C. 791a-825r of the Federal Power Act, for conduit exemption of the Project 7 Hydro Plant Hydroelectric Project, to be located on the raw water supply conduit from the Fairview Reservoir to the Project 7 water treatment plant in Montrose, Montrose County, Colorado.

The proposed Project 7 Hydro Plant Hydroelectric Project consists of: (1) a proposed flow control building containing two generating units having installed capacities of 61 kilowatts and 91 kilowatts, and (2) appurtenant facilities. The Project 7 Water Authority estimates the project would have an average annual generation of 600,000 kilowatt-hours that would be used by the water treatment facility with any excess being sold to a local utility.

Applicant Contact: Mr. Dick Margetts, Manager, Project 7 Water Authority, P.O. Box 1185, 69128 E. Highway 50, Montrose, CO 81401, Tel: (970) 249-5935, project7@montrose.net.

FERC Contact: Christopher Chaney, (202) 502-6778, chirstopher.chaney@ferc.gov.

Deadline for filing comments, motions to intervene, protests, recommendations, terms and conditions, prescriptions, competing applications (without notices of intent), or notices of intent to file competing applications: 60 days from the issuance of this notice. All filings may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13357) in the docket number field to access the document. For assistance, call toll-free 1-866-208-3372.

Kimberly D. Bose,
Secretary.

[FR Doc. E9-7768 Filed 4-6-09; 8:45 am]

BILLING CODE 6717-01-P